DEPARTMENT OF JUSTICE

Antitrust Division

Notice Pursuant to the National Cooperative Research and Production Act of 1993—Management Service Providers Association, Inc.

The notice on behalf of Management Service Providers Association, Inc. published in the Federal Register on Tuesday, November 28, 2000 (65 FR 70936), which was a duplicate of a notice previously published on Friday, November 24, 2000 (65 FR 70613), is retracted.

Constance K. Robinson,
Director of Operations, Antitrust Division.

[FR Doc. 01-6880 Filed 3-19-01; 8:45 am]

BILLING CODE 4410-11-M